ENVIRONMENTAL PROTECTION AGENCY

[FRL-7442-6]

Clean Air Scientific Advisory Committee, Notification of Public Advisory Committee Meeting; Teleconference Consultation on Project Work Plan for Revised Air Quality Criteria for Ozone and Related Photochemical Oxidants

ACTION: EPA Clean Air Scientific Advisory Committee, Notification of Public Advisory Committee Meeting; Teleconference Consultation on Project Work Plan for Revised Air Quality Criteria for Ozone and Related Photochemical Oxidants.

SUMMARY: Pursuant to the Federal Advisory Committee Act (FACA), as amended (5 U.S.C. App.), Public Law 92-463, notice is hereby given that the Clean Air Scientific Advisory Committee (CASAC) of the U.S. Environmental Protection Agency's (EPA or Agency) Science Advisory Board (SAB) will meet via teleconference on Thursday, February 6, 2003, from 10 a.m. to 1 p.m. eastern time. This teleconference meeting will be hosted out of Conference Room 6013, U.S. EPA, Ariel Rios Federal Building North, 1200 Pennsylvania Avenue, NW., Washington, DC 20004. The meeting is open to the public; however, due to limited space, seating will be on a first-come basis. The public may also attend via telephone, however, lines may be limited. Information on how to participate is provided below.

Purpose of this Meeting: The purpose of this public teleconference meeting is for the CASAC to conduct a consultation with EPA on the Project Work Plan for Revised Air Quality Criteria for Ozone and Related Photochemical Oxidants. (Note: A full CASAC review of the first revised draft AQCD for ozone and related photochemical oxidants is scheduled to take place later this calendar year, and will be announced via a separate Federal Register notice.)

Background: EPA promulgates National Ambient Air Quality Standards (NAAQS) based on scientific information assessed in air quality criteria documents (AQCD) issued under the Clean Air Act (CAA), section 108. The CAA also requires periodic (i.e., every five years) revision of criteria and review of NAAQS. Furthermore, section 109 of the CAA directed the establishment of the CASAC (42 U.S.C. 7409). The CASAC has a statutorily-mandated responsibility under the CAA to review and offer scientific and technical advice to the EPA Administrator on the air-quality criteria and regulatory documents which form the basis for the NAAQS. The previous AQCD for ozone, published in July 1996, provided the scientific basis for EPA's promulgation, in July 1997, of a new eight-hour NAAQS for ground-level ozone.

The Project Work Plan for Revised Air Quality Criteria for Ozone and Related Photochemical Oxidants was prepared by EPA's Office of Research and Development (ORD) National Center for Environmental Assessment (NCEA), located at Research Triangle Park (RTP), NC. The plan presents information on EPA's approach to assessing the latest available scientific information to be incorporated into a revised Ozone AQCD, identifies key issues to be addressed in the Ozone AQCD, and includes brief summaries of legislative requirements and the history of previous ozone criteria revisions and NAAQS reviews. ORD will prepare a draft revised Ozone AQCD and subject it to review at expert peer-review workshops, by the public, and by the CASAC.

The main purpose of the forthcoming revised AQCD for Ozone and Related Photochemical Oxidants is to critically evaluate and assess the latest scientific knowledge useful in indicating the kind and extent of all identifiable effects on public health and welfare which may be expected from the presence of these pollutants in the ambient air. ORD will place emphasis on assessment of health and environmental effects information. Other scientific information will also be evaluated, in part to provide a better understanding of key issues such as those associated with ozone photochemistry; issues on environmental ozone concentrations attributable to anthropogenic and background sources; and issues related to the health and environmental effects associated with changes in solar UV radiation and global warming, as mediated by changes in tropospheric ozone. The final Ozone AQCD document will be used by EPA's Office of Air Quality Planning and Standards (OAQPS) in its review of the Ozone NAAQS.

FOR FURTHER INFORMATION CONTACT: To participate in this meeting, contact Mr. Fred Butterfield, CASAC Designated Federal Officer, U.S. EPA Science Advisory Board (1400A), Suite 6450CC, 1200 Pennsylvania Avenue, NW., Washington, DC 20460; telephone/voice mail at (202) 564-4561; fax at (202) 501-0582; or via e-mail at: butterfield.fred@epa.gov. Members of the public desiring additional information about the meeting locations or the call-in number for the teleconference must contact Mr. Butterfield at the addresses and numbers identified above.

Submitting Public Comments: The CASAC will make a brief period of time available during the teleconference meeting to take public comments on the subject of the consultation. This oral public comment period will be no more than 15 minutes in length and will be divided among all speakers who register in advance. Registration is on a first-come basis. Speakers who have been granted time on the agenda may not yield their time to other speakers. Those wishing to speak but who are unable to register in time may provide their comments in writing. Requests for oral comments must be in writing (e-mail, fax or mail) and received by Mr. Butterfield at the address above no later than noon eastern time on February 4, 2003.

Availability of Review Material: There is only one document that is the subject of the CASAC consultation: NCEA's Project Work Plan for Revised Air Quality Criteria for Ozone and Related Photochemical Oxidants. This document is available electronically at the following URL address: http://cfpub.epa.gov/ncea/cfm/recordisplay.cfm?deid=55125. For information and any questions pertaining to the review document, please contact Mr. James Raub, NCEA-RTP, via telephone: (919) 541-4157; fax: 919-541-1818; or e-mail: raub.james@epa.gov.

Providing Oral or Written Comments: It is the policy of the EPA Science Advisory Board to accept written public comments of any length, and to accommodate oral public comments whenever possible. The EPA Science Advisory Board expects that public statements presented at its meetings will not be repetitive of previously-submitted oral or written statements. Specific instructions are as follows:

Oral Comments: In general, each individual or group requesting an oral presentation at a face-to-face meeting will be limited to a total time of 10 minutes (unless otherwise indicated above). For teleconference meetings, opportunities for oral comment will usually be limited to no more than three minutes per speaker and no more than 15 minutes total (unless otherwise indicated above). Deadlines for getting on the public speaker list for a meeting are given above. Speakers who plan to attend the teleconference meeting in person should bring at least 25 copies of their comments and presentation slides for distribution to the reviewers and public at the meeting.

Written Comments: Although the SAB accepts written comments until the date of the meeting, written comments are requested to be provided so that they will be received in the SAB Staff Office at least one week prior to the meeting date, in order for the comments to be made available to the reviewers at the meeting for their consideration. Comments should be supplied to the appropriate DFO at the address/contact information noted above, as follows: one hard copy with original signature and one electronic copy via e-mail (acceptable file formats: Adobe Acrobat [.pdf], WordPerfect or MS Word). Those providing written comments who also attend the meeting are requested to bring 25 copies of their comments for public distribution.

Meeting Access: Individuals requiring special accommodations at this meeting, including wheelchair access to the conference room, should contact Mr. Butterfield at least five business days prior to the meeting (i.e., by Thursday, January 30) so that appropriate arrangements can be made.

General Information: The SAB was statutorily-established in 1978 (42 U.S.C. 4365) to provide independent scientific and technical advice, consultation, and recommendations to the EPA Administrator on the technical basis for Agency positions and regulations. Additional information concerning the EPA Science Advisory Board, including its structure, function, and composition, may be found on the EPA SAB Web site at: http://www.epa.gov/sab; and in the EPA Science Advisory Board FY2001 Annual Staff Report, which is available from the EPA SAB Publications Staff at phone: (202) 564-4533; via fax at: (202) 501-0256; or on the SAB Web site at: http://www.epa.gov/sab/annreport01.pdf.

Dated: January 16, 2003.
A. Robert Flaak,
Acting Deputy Director, EPA Science Advisory Board Staff Office.

[FR Doc. 03-1628 Filed 1-23-03; 8:45 am]

BILLING CODE 6560-50-P